ENVIRONMENTAL PROTECTION AGENCY

[EPA-HQ-OPP-2006-0909; FRL-8139-6]

Diazinon; Product Cancellation Order

AGENCY: Environmental Protection Agency (EPA).

ACTION: Notice.

SUMMARY: This notice announces EPA's order for the cancellation, voluntarily requested by the registrant and accepted by the Agency, of a product containing the pesticide diazinon, pursuant to section 6(f)(1) of the Federal Insecticide, Fungicide, and Rodenticide Act (FIFRA), as amended. This cancellation order follows a May 16, 2007 Federal Register Notice of Receipt of Request from the diazinon registrant to voluntarily cancel their diazinon granular product registration. This is not the last diazinon product registered for use in the United States; however this is the last diazinon granular formulation registered for use in the United States. In the May 16, 2007 Notice, EPA indicated that it would issue an order implementing the cancellation to terminate use, unless the Agency received substantive comments within the 30-day comment period that would merit its further review of these requests, or unless the registrant withdrew their request within this period. The Agency received a comment on the Notice but none which merited its further review of the request. Further, the registrant did not withdraw their request. Accordingly, EPA hereby issues in this notice a cancellation order granting the requested cancellation. Any distribution, sale, or use of the diazinon products subject to this cancellation order is permitted only in accordance with the terms of this order, including any existing stocks provisions.

DATES: The cancellations are effective July 25, 2007.

FOR FURTHER INFORMATION CONTACT: Jude Andreasen, Special Review and Reregistration Division (7508P), Office of Pesticide Programs, Environmental Protection Agency, 1200 Pennsylvania Ave., NW., Washington, DC 20460-0001; telephone number: (703) 308-9342; fax number: (703) 308-7070; e-mail address: andreasen.jude@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2006-0909. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. What Action is the Agency Taking?

This notice announces the cancellation, as requested by registrants, of certain agricultural end-use diazinon products registered under section 3 of FIFRA. These registrations are listed in sequence by registration number in Table 1 of this unit.

Table 1.—Diazinon Product Cancellations
EPA Registration No. | Product Name
2935-408 | Diazinon 14G

Table 2 of this unit includes the names and addresses of record for all registrants of the products in Table 1 of this unit, in sequence by EPA company number.

Table 2.—Registrants of Cancelled Diazinon Products
EPA Company No. | Company Name and Address
2935 | Wilbur-EllisP.O. Box 1286Fresno, CA 93715

III. Summary of Public Comments Received and Agency Response to Comments

One citizen commented that the Agency should deny the request to voluntarily cancel the diazinon registration. The commenter mistakenly noted that diazinon still has household uses. All retail sales of diazinon products for household use ended on December 31, 2004. The commenter also noted that use of diazinon should be tracked by EPA. Since all remaining diazinon products are classified as restricted use products with only agricultural uses, only certified applicators or those under the supervision of a certified applicator may purchase and use diazinon products. As such, the Agency believes that diazinon use is sufficiently tracked and monitored. For these reasons, the Agency does not believe that the comments submitted during the comment period merit further review or a denial of the request for voluntary cancellation.

IV. Cancellation Order

Pursuant to FIFRA section 6(f), EPA hereby approves the requested cancellation of diazinon registrations identified in Table 1 of Unit II. Accordingly, the Agency orders that the diazinon product registrations identified in Table 1 of Unit II. are hereby canceled. Any distribution, sale, or use of existing stocks of the products identified in Table 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this Notice includes the following existing stocks provisions.

The registrant will be allowed to sell and distribute the subject products through December 2008. In addition, existing stocks of diazinon products may be sold or used until they are depleted.

List of Subjects

Environmental protection, Pesticides and pests.

Dated: July 17, 2007.
Peter Caulkins,
Acting Director, Special Review and Reregistration Division, Office of Pesticide Programs.

[FR Doc. E7-14331 Filed 7-24-07; 8:45 am]

BILLING CODE 6560-50-S